DEPARTMENT OF HEALTH AND HUMAN SERVICES

National Institutes of Health

Proposed Collection; Comment Request; The Agricultural Health Study: A Prospective Cohort Study of Cancer and Other Disease Among Men and Women in Agriculture (NCI)

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: The Agricultural Health Study: A Prospective Cohort Study of Cancer and Other Disease Among Men and Women in Agriculture (NCI) (OMB#: 0925-0406). Type of Information Collection Request: Revision. Need and Use of Information Collection: The purpose of this information collection is to continue and complete updating the occupational and environmental exposure information as well as medical history information for respondents enrolled in the Agriculture Health Study. This represents a request to continue and complete phase III (2005-2010) of the study. The primary objectives of the study are to determine the health effects resulting from occupational and environmental exposures in the agricultural environment. Secondary objectives include evaluating biological markers that may be associated with agricultural exposures and risk of certain types of cancer. Questionnaire data will be collected by using computer assisted telephone interview (CATI) and in-person interview (CAPI) systems for telephone screeners and home visit interviews, respectively. Some respondents will also be asked to participate in the collection of biospecimens including blood, urine, and buccal cells (loose cells from the respondent's mouth). The findings will provide valuable information concerning the potential link between agricultural exposures and cancer and other chronic diseases among agricultural Health Study cohort members, and this information may be generalized to the entire agricultural community. Frequency of Response: One or Three. Affected Public: Private Sector, Farms. Type of Respondents: Licensed pesticide applicators and their spouses. The annual reporting burden is as follows:

Estimates of Hour Burden
Type of respondent | Instrument | Estimated annual number of respondents | Frequency of response | Average time per response minutes/hour | Annual burden hours
Private Applicators | CATI Screener | 960 | 1 | 5/60 (0.083) | 80
Private Applicators | Home Visit CAPI and Biospecimens × 1 | 310 | 1 | 95/60 (1.5) | 465
Private Applicators | Home Visit CAPI and Biospecimens × 3 | 10 | 3 | 95/60 (1.5) | 45
Private Applicators, Spouses, Commercial Applicators | Introductory Telephone Contact and Buccal Cell | 150 | 1 | 5/60 (0.083) | 13
Total |  | 1430 |  |  | 603

The annualized cost to respondents is estimated at $16,153 each year for a three-year period.

There are no capital costs, operating costs, and/or maintenance costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Michael Alavanja, Dr.P.H, Occupational and Environmental Epidemiology Branch, Division of Cancer Epidemiology and Genetics, National Cancer Institute, NIH, Executive Plaza South, Room 8000, 6120 Executive Blvd., Rockville, MD 20892, or call 301-496-9093, or e-mail your request, including your address to: alavanjm@mail.nih.gov.

Comments Due Date: Comments regarding this information collection are best assured of having their full effect if received within 60 days of the date of this publication.

Dated: February 26, 2010.
Vivian Horovitch-Kelley,
NCI Project Clearance Liaison, National Institutes of Health.

[FR Doc. 2010-4567 Filed 3-3-10; 8:45 am]

BILLING CODE 4140-01-P